DEPARTMENT OF THE INTERIOR

Bureau of Land Management

[CO-935-1430-ET; COC-017768]

Notice of Proposed Extension of Withdrawal; Opportunity for Public Meeting; Colorado

AGENCY: Bureau of Land Management, Interior.

ACTION: Notice.

SUMMARY: The Bureau of Land Management proposes to extend Public Land Order No. 5979 for a 20-year period. This order withdrew public lands from operation of the public land laws, including location and entry under the U.S. mining laws, to protect two administrative sites. The lands have been and remain open to mineral leasing. This notice also gives an opportunity to comment on the proposed action and to request a public meeting.

DATES: Comments and requests for a public meeting must be received by January 16, 2001.

Addresses: Comments and meeting requests should be sent to the Colorado State Director, 2850 Youngfield Street, Lakewood, Colorado 80215-7093.

FOR FURTHER INFORMATION CONTACT: Doris E. Chelius at 303-239-3706.

SUPPLEMENTARY INFORMATION: The Uncompaphgre Field Office and the Little Snake Field Office have requested that Public Land Order No. 5979 be extended for a 20-year period. This withdrawal was made to protect constructed improvements and equipment storage at two Bureau of Land Management administrative sites. This withdrawal will expire September 2, 2001.

The withdrawal comprises two sites. One is approximately 0.688 acres of public land near the town of Norwood in Section 27, T. 45 N., R. 13 W., New Mexico Principal Meridian, San Miguel County, Colorado. The second site is 1 acre of public land in the town of Craig in section 35, T. 7 N., R 91 W., Sixth Principal Meridian, Moffat County, Colorado. A complete description of the lands can be provided by the Colorado State Office at the address shown above.

For a period of 90 days from the date of publication of this notice, all persons who wish to submit comments, suggestions, or objections in connection with the proposed extension, or to request a public meeting may present their views in writing to the Colorado State Director at the address shown above.

Notice is hereby given that an opportunity for a public meeting is afforded in connection with this proposed extension. Any interested persons who desire a public meeting for the purpose of being heard on this proposed action should submit a written request to the Colorado State Director within 90 days from the date of publication of this notice. If the authorized officer determines that a public meeting will be held, a notice of the time and place will be published in the Federal Register at least 30 days prior to the scheduled date of the meeting.

This extension will be processed in accordance with the regulations set forth in 43 CFR 2310.4.

Jenny L. Saunders,
Realty Officer.

[FR Doc. 00-26432 Filed 10-13-00; 8:45 am]

BILLING CODE 4310-JB-P